ENVIRONMENTAL PROTECTION AGENCY

[FRL-6951-8]

Proposed CERCLA Prospective Purchaser Agreement; Doc's Auto Salvage Site; Minneapolis, Hennepin County, Minnesota

AGENCY: Environmental Protection Agency (EPA).

ACTION: Notice; request for public comment.

SUMMARY: In accordance with the Comprehensive Environmental Response, Compensation, and Liability Act, as amended (“CERCLA”), 42 U.S.C. 9601 et seq., and the authority of the Attorney General of the United States to compromise and settle claims of the United States as delegated, notice is hereby given of a proposed prospective purchaser agreement concerning the Doc's Auto Salvage site at 580 Eighth Avenue North and 519 Tenth Avenue North, Minneapolis, Hennepin County, Minnesota, with the Metropolitan Council. The agreement requires the Metropolitan Council to pay $1,000 to the EPA Hazardous Substances Superfund; to exercise due care at the site with respect to the existing contamination; and to provide access to the site and to records kept by the Metropolitan Council, retaining any such records for at least ten (10) years after the effective date of the agreement. The agreement includes a covenant not to sue or to take any other civil or administrative action against the Metropolitan Council for any and all civil liability for injunctive relief or reimbursement of response costs pursuant to Sections 106 or 107(a) of CERCLA, 42 U.S.C. 9606 and 9607(a), with respect to existing contamination at or from the site. For thirty (30) days following the date of publication of this notice, the United States will receive all written comments relating to the agreement. The United States will consider all comments and may modify or withdraw its consent to the agreement if comments received disclose facts or considerations which indicate that the agreement is inappropriate, improper, or inadequate. The United States' response to any comments received will be available for public inspection at U.S. EPA, Region 5, 77 W. Jackson Boulevard, Chicago, IL 60604. Please contact Christine M. Liszewski at (312) 886-4670 to make arranges to inspect the comments.

DATES: Comments must be submitted on or before April 18, 2001.

ADDRESSES: The proposed settlement is available for public inspection at U.S. EPA, Region 5, 77 W. Jackson Boulevard, Chicago, IL 60604. A copy of the proposed agreement may be obtained from Christine M. Liszewski, at U.S. EPA, Region 5, 77 W. Jackson Boulevard (C-14J), Chicago, IL 60604, phone (312) 886-4670. Comments should reference the Doc's Auto Salvage prospective purchaser agreement, and should be addressed to Christine M. Liszewski.

FOR FURTHER INFORMATION CONTACT: Christine M. Liszewski, at U.S. EPA, Region 5, 77 W. Jackson Boulevard (C-14J), Chicago, IL 60604, phone (312) 886-4670.

Dated: January 3, 2001.
Douglas Ballotti,
Acting Director, Superfund Division, U.S. EPA Region 5.

[FR Doc. 01-6682 Filed 3-16-01; 8:45 am]

BILLING CODE 6560-50-P